DEPARTMENT OF THE INTERIOR

Bureau of Land Management

[OR-110-0777-30-24-1A; HAG0-0295]

Cascade-Siskiyou National Monument Map and Boundary Description

AGENCY: Bureau of Land Management, Interior.

ACTION: Notice.

SUMMARY: This Notice is to publish the official map and boundary description of the Cascade-Siskiyou National Monument, established by Presidential Proclamation on June 9, 2000.

SUPPLEMENTARY INFORMATION: The Cascade-Siskiyou National Monument involves Federal lands managed by the Bureau of Land Management in Jackson County, Oregon. The following description refers to the map entitled “Cascade-Siskiyou National Monument” on file at the Ashland Field Office, Medford, Oregon.

Beginning at a point on the Oregon-California State Line, at its intersection with the range line between Ranges 1 East and 2 East, Willamette Meridian, Oregon;

Thence northerly approximately 5.25 miles along the aforementioned range line to a point where said range line intersects the hydrologic divide between the Klamath River and the Rogue River;

Thence easterly and southeasterly approximately 5.50 miles along said hydrologic divide to a point approximately 150 feet north of the section line between section 34, T. 40 S., R. 2 E., and section 3, T. 41 S., R. 2 E.;

Thence northeasterly along and down a ridgeline approximately 1.00 miles to the section line between section 34 and 35, T. 40 S., R. 2 E.;

Thence northerly along the section lines between sections 34 and 35, 26 and 27, 22 and 23, 14 and 15, 10 and 11, to the section corner of sections 2, 3, 10, and 11, T. 40 S., R. 2 E.;

Thence easterly along the section lines between sections 2 and 11, 1 and 12, T. 40 S., R. 2 E., and sections 6 and 7, T. 40 S., R. 3 E., to the section corner of sections 5, 6, 7, and 8, T. 40 S., R. 3 E.;

Thence northerly along the section line between sections 5 and 6, T. 40 S., R. 3 E., to the intersection with the centerline of Oregon State Highway 66 (Greensprings Highway);

Thence easterly along the centerline of Oregon State Highway 66 approximately 3.50 miles to a point on the section line between sections 3 and 4, T. 40 S., R. 3 E.;

Thence northerly along the section lines between sections 3 and 4, T. 40 S., R. 3 E., and sections 33 and 34, 27 and 28, 21 and 22, 15 and 16, T. 39 S., R. 3 E., to the section corner of sections 9, 10, 15, and 16, T. 39 S., R. 3 E.;

Thence easterly along the section lines between sections 10 and 15, 11 and 14, 12 and 13, T. 39 S., R. 3 E., to the section corner of sections 12 and 13, T. 39 S., R. 3 E., and sections 7 and 18, T. 39 S., R. 4 E.;

Thence northerly along the section line between section 12, T. 39 S., R. 3 E., and section 7, T. 39 S., R. 4 E., to the section corner of sections 1 and 12, T. 39 S., R. 3 E., and sections 6 and 7, T. 39 S., R. 4 E.;

Thence easterly along the section line between sections 6 and 7, T. 39 S., R. 4 E., to the section corner of sections 5, 6, 7, and 8, T. 39 S., R. 4 E.;

Thence southerly along the section line between sections 7 and 8, T. 39 S., R. 4 E., to the section corner of sections 7, 8, 17, and 18, T. 39 S., R. 4 E.;

Thence easterly along the section line between sections 8 and 17, T. 39 S., R. 4 E., to the section corner of sections 8, 9, 16, and 17, T. 39 S., R. 4 E.;

Thence northerly along the section line between sections 8 and 9, T. 39 S., R. 4 E., to the section corner of sections 4, 5, 8, and 9, T. 39 S., R. 4 E.;

Thence easterly along the section line between sections 4 and 9, T. 39 S., R. 4 E., to the section corner of sections 3, 4, 9, and 10, T. 39 S., R. 4 E.;

Thence southerly along the section line between sections 9 and 10, T. 39 S., R. 4 E., to the section corner of sections 9, 10, 15, and 16, T. 39 S., R. 4. E.;

Thence easterly along the section line between sections 10 and 15, T. 39 S., R. 4 E., to the section corner of sections 10, 11, 14, and 15, T. 39 S., R. 4. E.;

Thence southerly along the section line between sections 14 and 15, T. 39 S., R. 4 E., to the section corner of sections 14, 15, 22, and 23, T. 39 S., R. 4 E.;

Thence easterly along the section line between sections 14 and 23, T. 39 S., R. 4 E., to the section corner of sections 13, 14, 23, and 24, T. 39 S., R. 4 E.;

Thence southerly along the section line between sections 23 and 24, T. 39 S., R. 4 E., to the section corner of sections 23, 24, 25, and 26, T. 39 S., R. 4 E.;

Thence westerly along the section lines between sections 23 and 26, 22 and 27, T. 39 S., R. 4 E., to the East 1/16 corner of sections 22 and 27, T. 39 S., R. 4 E.;

Thence southerly along the north and south centerline of the NE¼ of section 27, T. 39 S., R. 4 E., to the Northeast 1/16 corner of section 27, T. 39 S., R. 4 E.;

Thence westerly along the east and west centerline of the NE¼ of section 27, T. 39 S., R. 4 E., to the Center-North 1/16 corner of section 27, T. 39 S., R. 4 E.;

Thence southerly along the north and south centerline of section 27, T. 39 S., R. 4 E., to the ¼ corner of sections 27 and 34, T. 39 S., R. 4 E.;

Thence westerly along the section line between sections 27 and 34, T. 39 S., R. 4 E., to the section corner of sections 27, 28, 33, and 34, T. 39 S., R. 4 E.;

Thence southerly along the section line between sections 33 and 34, T. 39 S., R. 4 E., to the section corner of sections 33 and 34, T. 39 S., R. 4 E.;

Thence westerly along the section line between section 33, T. 39 S., R. 4 E., and section 3, T. 40 S., R. 4 E., to the section corner of sections 3 and 4, T. 40 S., R. 4 E.;

Thence southerly along the section line between sections 3 and 4, T. 40 S., R. 4 E., approximately 1,000 feet to the centerline of Oregon State Highway 66;

Thence westerly along the centerline of Oregon State Highway 66 approximatley 1.50 miles to the intersection of the section line between sections 4 and 5, T. 40 S., R. 4 E.;

Thence southerly along the section line between sections 4 and 5, T. 40 S., R. 4 E., to the South 1/16 corner of sections 4 and 5, T. 40 S., R. 4 E.;

Thence easterly along the east and west centerline of SW¼ of section 4, T. 40 S., R. 4 E., to the Southwest 1/16 corner of section 4, T. 40 S., R. 4 E.;

Thence southerly along the north and south centerline of SW¼ of section 4, T. 40 S., R. 4 E., to the West 1/16 corner of sections 4 and 9, T. 40 S., R. 4 E.;

Thence easterly along the section line between sections 4 and 9, T. 40 S., R. 4 E., to the ¼ corner of sections 4 and 9, T. 40 S., R. 4 E.;

Thence southerly along the north and south centerline of section 9, T. 40 S., R. 4 E., to the ¼ corner of sections 9 and 16, T. 40 S., R. 4 E.;

Thence westerly along the section line between sections 9 and 16, T. 40 S., R. 4 E., to the section corner of sections 8, 9, 16, and 17, T. 40 S., R. 4 E.;

Thence southerly along the section line between sections 16 and 17, T. 40 S., R. 4 E., to the section corner of sections 16, 17, 20, and 21, T. 40 S., R. 4 E.;

Thence easterly along the section line between sections 16 and 21, T. 40 S., R. 4 E., to the section corner of sections 15, 16, 21, and 22, T. 40 S., R. 4 E.;

Thence northeasterly approximately 600 feet to the intersection with the 3400 foot contour line;

Thence southerly approximately 1,500 feet, following the aforementioned 3400 foot contour line to the intersection with the east and west centerline of section 22, T. 40 S., R. 4 E.;

Thence easterly along the east and west centerline of section 22, T. 40 S., R. 4 E., to the center ¼ corner of section 22, T. 40 S., R. 4 E.;

Thence southerly along the north and south centerline of section 22, T. 40 S., R. 4 E., to the ¼ corner of section 22 and 27, T. 40 S., R. 4 E.;

Thence southerly along the north and south centerline of section 27, T. 40 S., R. 4 E., to the Center-North 1/16 corner of section 27, T. 40 S., R. 4 E.;

Thence westerly along the east and west centerline of the NW¼ of section 27 T. 40 S., R. 4 E., approximately 1,200 feet to the intersection with the 3400 foot contour line;

Thence southerly approximately 1,500 feet, following the aforementioned 3400 foot contour line to the intersection with the east and west centerline of section 27, T. 40 S., R. 4 E.;

Thence easterly along the east and west centerline of section 27, T. 40 S., R. 4 E., to the center ¼ corner of section 27, T. 40 S., R. 4 E.;

Thence southerly along the north and south centerline of section 27, T. 40 S., R. 4 E., to the ¼ corner of sections 27 and 34, T. 40 S., R. 4 E.;

Thence easterly along the section line between section 27 and 34, T. 40 S., R. 4 E., to the section corner of sections 26, 27, 34, and 35, T. 40 S., R. 4 E.;

Thence southerly along the section lines between sections 34 and 35, T. 40 S., R. 4 E., and sections 2 and 3, T. 41 S., R. 4 E., to the South 1/16 corner of sections 2 and 3, T. 41 S., R. 4 E.;

Thence westerly along the east and west centerline of the South ½ of section 3, T. 41 S., R. 4 E., approximately 3,900 feet to the intersection with the north edge of BLM road #41-2E-10.1;

Thence southwesterly along the north edge of BLM road #41-2E-10.1., approximately 1,850 feet to the section corner of sections 3, 4, 9, and 10, T. 41 S., R. 4 E.;

Thence easterly along the section line between sections 3 and 10, T. 41 S., R. 4 E., to the West 1/16 corner of Sections 3 and 10, T. 41 S., R. 4 E.;

Thence southerly along the north and south centerline of the NW¼ of section 10, T. 41 S., R. 4 E.; to the Center-West 1/16 corner of section 10, T. 41 S., R. 4 E.;

Thence westerly along the east and west centerline of section 10, T. 41 S., R. 4 E., to the ¼ corner of sections 9 and 10, T. 41 S., R. 4 E.;

Thence westerly along the east and west centerline of section 9, T. 41 S., R. 4 E., to the Center ¼ corner of section 9, T. 41 S., R. 4 E.;

Thence southerly along the north and south centerline of section 9, T. 41 S., R. 4 E., to the ¼ corner of section 9 and 16, T. 41 S., R. 4 E.;

Thence southerly along the north and south centerline of section 16, T. 41 S., R. 4 E., approximately 490 feet, to a point of intersection on the Oregon-California State Line;

Thence westerly along the Oregon-California State Line, approximately 14.50 miles, to the point of beginning.

For Further Information Contact: Richard J. Drehobl, Field Manager, Bureau of Land Management, Ashland Field Office, 3040 Biddle Road, Medford, Oregon 97504; Telephone (541) 618-2331.

Dated: July 19, 2000.
Richard J. Drehobl,
Field Manager, Ashland Field Office.

[FR Doc. 00-19605 Filed 8-2-00; 8:45 am]

BILLING CODE 4310-33-M